DEPARTMENT OF COMMERCE

National Oceanic and Atmospheric Administration

RIN 0648-XF75

Endangered and Threatened Species; Take of Anadromous Fish

AGENCY: National Marine Fisheries Service (NMFS), National Oceanic and Atmospheric Administration (NOAA), Commerce.

ACTION: Notice; availability of evaluation of joint state/tribal hatchery plans and request for comment.

SUMMARY: Notice is hereby given that the Washington Department of Fish and Wildlife and the Tulalip Tribes have submitted six Hatchery and Genetic Management Plans, to be considered jointly, to NMFS pursuant to the limitation on take prohibitions for actions conducted under Limit 6 of the 4(d) Rule for salmon and steelhead promulgated under the Endangered Species Act (ESA). The plans specify the propagation of three species of salmon in the Snohomish River basin of Washington State. This document serves to notify the public of the availability for comment of the proposed evaluation of the Secretary of Commerce (Secretary) as to whether implementation of the joint plans will appreciably reduce the likelihood of survival and recovery of ESA-listed Puget Sound Chinook salmon and Puget Sound steelhead.

This notice further advises the public of the availability for review of a draft Environmental Assessment of the effects of the NMFS determination on the subject joint plans.

DATES: Comments must be received at the appropriate address or fax number (see ADDRESSES) no later than 5:00 p.m. Pacific time on January 17, 2017.

ADDRESSES: Written comments on the proposed evaluation and pending determination should be addressed to the Tim Tynan, NMFS Sustainable Fisheries Division, 510 Desmond Drive, Suite 103, Lacey, WA 98503. Comments may be submitted by email. The mailbox address for providing email comments is: SnohomishHatcheries.wcr@noaa.gov. Include in the subject line of the email comment the following identifier: Comments on Snohomish River hatchery programs. The documents are available on the Internet at www.westcoast.fisheries.noaa.gov. Comments received will also be available for public inspection, by appointment, during normal business hours by calling (360) 753-9579.

FOR FURTHER INFORMATION CONTACT: Tim Tynan at (360) 753-9579 or by email at tim.tynan@noaa.gov.

SUPPLEMENTARY INFORMATION:

ESA-Listed Species Covered in This Notice

Chinook salmon (Oncorhynchus tshawytscha): threatened, naturally produced and artificially propagated Puget Sound.

Steelhead (O. mykiss): threatened, naturally produced and artificially propagated Puget Sound.

Background

The Washington Department of Fish and Wildlife and the Tulalip Tribes have submitted to NMFS plans for six jointly operated hatchery programs in the Snohomish River region. The plans were submitted from December 2012 to September 2016, pursuant to limit 6 of the 4(d) Rule for ESA-listed salmon and steelhead. The hatchery programs release ESA-listed Chinook salmon and non-listed coho and fall chum salmon into the Snohomish River basin and nearby.

As required by the ESA 4(d) Rule (65 FR 42422; July 10, 2000, as updated in 70 FR 37160; June 28, 2005), the Secretary is seeking public comment on her pending determination as to whether the joint plans for hatchery programs in the Snohomish River basin would appreciably reduce the likelihood of survival and recovery of the ESA-listed Puget Sound salmon and steelhead.

Authority

Under section 4 of the ESA, the Secretary of Commerce is required to adopt such regulations as she deems necessary and advisable for the conservation of species listed as threatened. The ESA salmon and steelhead 4(d) Rule (65 FR 42422; July 10, 2000, as updated in 70 FR 37160; June 28, 2005) specifies categories of activities that contribute to the conservation of listed salmonids and sets out the criteria for such activities. Limit 6 of the updated 4(d) Rule (50 CFR 223.203(b)(6)) further provides that the prohibitions of paragraph (a) of the updated 4(d) Rule (50 CFR 223.203(a)) do not apply to activities associated with a joint state/tribal artificial propagation plan provided that the joint plan has been determined by NMFS to be in accordance with the salmon and steelhead 4(d) Rule (65 FR 42422; July 10, 2000, as updated in 70 FR 37160; June 28, 2005).

Dated: December 12, 2016.
Donna S. Wieting,
Director, Office of Protected Resources, National Marine Fisheries Service.

[FR Doc. 2016-30180 Filed 12-14-16; 8:45 am]

BILLING CODE 3510-22-P